DEPARTMENT OF EDUCATION

[Docket No.: ED-2021-SCC-0102]

Agency Information Collection Activities; Comment Request; Education Stabilization Fund—Governor's Emergency Education Relief Fund (GEER I and GEER II) Recipient Data Collection Form

AGENCY: Office of Elementary and Secondary Education (OESE), Department of Education (ED).

ACTION: Notice.

SUMMARY: In accordance with the Paperwork Reduction Act of 1995, ED is proposing a revision of a currently approved collection.

DATES: Interested persons are invited to submit comments on or before September 13, 2021.

ADDRESSES: To access and review all the documents related to the information collection listed in this notice, please use http://www.regulations.gov by searching the Docket ID number ED-2021-SCC-0102. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave SW, LBJ, Room 6W208D, Washington, DC 20202-8240.

FOR FURTHER INFORMATION CONTACT: For specific questions related to collection activities, please contact Gloria Tanner, 202-453-5596.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Education Stabilization Fund—Governor's Emergency Education Relief Fund (GEER I and GEER II) Recipient Data Collection Form.

OMB Control Number: 1810-0748.

Type of Review: A revision of a currently approved collection.

Respondents/Affected Public: State, Local, and Tribal Governments; Private Sector.

Total Estimated Number of Annual Responses: 3,326.

Total Estimated Number of Annual Burden Hours: 20,348.

Abstract: Under the current unprecedented national health emergency, the legislative and executive branches of government have come together to offer relief to those individuals and industries affected by the COVID-19 virus under the Coronavirus Aid, Relief, and Economic Security (CARES) Act (Pub. L. 116-136) authorized on March 27, 2020 and expanded through the Coronavirus Response and Relief Supplemental Appropriations (CRRSA) Act, and the American Rescue Plan.

The Department awards Education Stabilization Fund—Governor's Emergency Education Relief (GEER) grants to Governors (States) and analogous grants to Outlying Areas for the purpose of providing local educational agencies (LEAs), institutions of higher education (IHEs), and other education related entities with emergency assistance as a result of the coronavirus pandemic. The Department has awarded these grants to States (Governor's offices) based on a formula stipulated in the legislation. The grants are also awarded to Outlying Areas based on the same formula: (1) 60% on the basis of the State's or Outlying Area's relative population of individuals aged 5 through 24. (2) 40% on the basis of the State's relative number of children counted under section 1124(c) of the Elementary and Secondary Education Act of 1965 (ESEA). The grants are awarded to Outlying Areas based on the same formula. Data collected through this information collection will inform Department monitoring and oversight, and public reporting. This information collection requests approval for a revision to a previously approved collection that includes annual reporting requirements to comply with the requirements of the GEER program and obtain information on how the funds were used. The revisions reflect a streamlining of the approved collection form requests for additional reporting under CRSSA. In accordance with the Recipient's Funding Certification and Agreements executed by GEER grantees, the Secretary may specify additional forms of reporting. This submission includes revisions to the GEER data collection. In addition to reviewing the proposed revisions, ED requests stakeholders respond to the directed questions found in Attachment A.

Dated: July 9, 2021.
Kate Mullan,
PRA Coordinator, Strategic Collections and Clearance Governance and Strategy Division, Office of Chief Data Officer, Office of Planning, Evaluation and Policy Development.

[FR Doc. 2021-14963 Filed 7-13-21; 8:45 am]

BILLING CODE 4000-01-P